DEPARTMENT OF JUSTICE

Notice of Lodging of Proposed Consent Decree Under the Clean Water Act

Notice is hereby given that on August 3, 2007, a proposed Consent Decree in United States of America, and City of Sterling, Colorado (Plaintiffs) v. Aristedes Zavaras, Executive Director, State of Colorado Department of Corrections, Sterling Correctional Facility, and State of Colorado (Defendants), Civil Action No. 07-CV-01643-MSK-MSW, was lodged with the United States District Court for the District of Colorado.

In this action, the United States and the City of Sterling, Co-Plaintiffs, seek civil penalties and Supplemental Environmental Projects (“SEPs”) for Defendants' discharges of pollutants at the Sterling Correctional Facility in Logan County, Colorado, in violation of sections 301 and 307 of the Act, 33 U.S.C. 1311, 1317, and local ordinance, City of Sterling, Colo., Sewer System Pretreatment Program (“Sterling SSPP”), Chapter 21, Article V, sections 21-201 to 21-222. The Consent Decree addresses the Correctional Facility's violations of its Industrial User Permit issued by the City of Sterling, which owns and operates a publicly owned treatment works (“POTW”) the which Correctional Facility is connected. Under the terms of the Consent Decree, Defendants will pay a civil penalty of $50,000 and perform SEPs valued at $225,000.

The Department of Justice will receive for a period of thirty (30) days from the date of this publication comments relating to the Consent Decree in the above-captioned case. Comments should be addressed to the Assistant Attorney General, Environment and Natural Resources Division, and either e-mailed to pubcomment-ees.enrd@usdoj.gov or mailed to P.O. Box 7611, U.S. Department of Justice, Washington, DC 20044-7611,¹ and should refer to Civil Action No. 07-CV-01643-MSK-MSW, D.J. Ref. 90-5-1-1-08122.

¹ Comments should be addressed to the Assistant Attorney General even if the settlement was approved by some other officer of the Department (e.g., Section Chief or Associate Attorney General).

The Sterling CD may be examined at the Office of the United States Attorney, 11225 Seventeenth Street, Suite 700 Seventeenth Street Plaza, Denver, Colorado 80202. It also may be examined at the offices of U.S. EPA—Region 8, 1595 Wynkoop Street, Denver, Colorado 80202. During the public comment period, the Consent Decree may also be examined on the following Department of Justice Web site, to http://www.usdoj.gov/enrd/Consent_Decrees.html.

A copy of the Consent Decree also may be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Robert D. Brook,
Assistant Chief, Environmental Enforcement Section, Environment and Natural Resources Division.

[FR Doc. 07-4121 Filed 8-22-07; 8:45 am]

BILLING CODE 4410-15-M